DEPARTMENT OF HEALTH AND HUMAN SERVICES

Centers for Medicare & Medicaid Services

[CMS-2480-NC]

Medicaid Program; Request for Comments on Legislative Changes To Provide Quality of Care to Children

AGENCY: Centers for Medicare & Medicaid Services (CMS), HHS.

ACTION: Notice with Comments.

SUMMARY: This notice requests comments from the public for our consideration in developing the Secretary's recommendations for legislative changes to improve the quality of care provided to children under Medicaid and the Children's Health Insurance Program, including recommendations for quality reporting by the States. The Children's Health Insurance Program Reauthorization Act of 2009 (CHIPRA) requires the Secretary of Health and Human Services to provide to Congress recommendations for legislative changes to improve the quality of care provided to children under Medicaid and the Children's Health Insurance Program.

DATES: Comment Date: To be assured consideration, comments must be received at one of the addresses provided below, no later than 5 p.m. on August 30, 2010.

ADDRESSES: In commenting, please refer to file code CMS-2480-NC. Because of staff and resource limitations, we cannot accept comments by facsimile (FAX) transmission.

You may submit comments in one of four ways (please choose only one of the ways listed):

1. Electronically. You may submit electronic comments on this regulation to http://www.regulations.gov. Follow the instructions under the “More Search Options” tab.

2. By regular mail. You may mail written comments to the following address ONLY: Centers for Medicare & Medicaid Services, Department of Health and Human Services, Attention: CMS-2480-NC, P.O. Box 8010, Baltimore, MD 21244-1850.

Please allow sufficient time for mailed comments to be received before the close of the comment period.

3. By express or overnight mail. You may send written comments to the following address only: Centers for Medicare & Medicaid Services, Department of Health and Human Services, Attention: CMS-2480-NC, Mail Stop C4-26-05, 7500 Security Boulevard, Baltimore, MD 21244-1850. [Note: This zip code for express mail or courier delivery only. This zip code specifies the agency's physical location.]

4. By hand or courier. If you prefer, you may deliver (by hand or courier) your written comments before the close of the comment period to either of the following addresses: a. For delivery in Washington, DC—Centers for Medicare & Medicaid Services, Department of Health and Human Services, Room 445-G, Hubert H. Humphrey Building, 200 Independence Avenue, SW., Washington, DC 20201.

(Because access to the interior of the Hubert H. Humphrey Building is not readily available to persons without Federal government identification, commenters are encouraged to leave their comments in the CMS drop slots located in the main lobby of the building. A stamp-in clock is available for persons wishing to retain a proof of filing by stamping in and retaining an extra copy of the comments being filed.)

b. For delivery in Baltimore, MD—Centers for Medicare & Medicaid Services, Department of Health and Human Services, 7500 Security Boulevard, Baltimore, MD 21244-1850. [Note: This zip code for express mail or courier delivery only. This zip code specifies the agency's physical location.]

If you intend to deliver your comments to the Baltimore address, please call telephone number (410) 786-7195 in advance to schedule your arrival with one of our staff members. Comments mailed to the addresses indicated as appropriate for hand or courier delivery may be delayed and received after the comment period.

For information on viewing public comments, see the beginning of the SUPPLEMENTARY INFORMATION section.

FOR FURTHER INFORMATION CONTACT: Charles K. MacKay (410) 786-2106.

SUPPLEMENTARY INFORMATION: Inspection of Public Comments: All comments received before the close of the comment period are available for viewing by the public, including any personally identifiable or confidential business information that is included in a comment. We post all comments received before the close of the comment period on the following Web site as soon as possible after they have been received: http://www.regulations.gov. Follow the search instructions on that Web site to view public comments.

Comments received timely will also be available for public inspection as they are received, generally beginning approximately 3 weeks after publication of a document, at the headquarters of the Centers for Medicare & Medicaid Services, 7500 Security Boulevard, Baltimore, Maryland 21244, Monday through Friday of each week from 8:30 a.m. to 4 p.m. To schedule an appointment to view public comments, phone 1-800-743-3951.

I. Background

Section 401(a) of the Children's Health Insurance Program Reauthorization Act of 2009 (Pub. L. 111-3) (CHIPRA), added section 1139A to the Social Security Act (the Act). Section 1139A(a)(6), as added by section (401)(a), requires the Secretary to report to the Congress by January 1, 2011, and every 3 years thereafter, on the status of the following factors that influence the quality of care given to children under the Medicaid and Children's Health Insurance Program.

• The duration and stability of health insurance coverage for children under titles XIX and XXI of the Social Security Act.

• The quality of care provided under titles XIX and XXI for:

+ Preventive health care services.

+ Health care for acute conditions.

+ Chronic health care.

+ Health services to ameliorate the effects of physical and mental conditions and to aid in the growth and development of infants, young children, school-age children, and adolescents with special health care needs.

• The quality of children's health care under titles XIX and XXI, across the various domains of quality, including:

+ Clinical quality.

+ Health care safety.

+ Family experience with health care.

+ Health care in the most integrated setting.

+ Elimination of racial, ethnic, and socio-economic disparities in health and health care.

• The status of voluntary reporting by States under titles XIX and XXI, utilizing the initial core quality measurement set. Based on the assessment of these factors affecting the quality of care given to children under titles XIX and XXI, the Secretary is also required to make any recommendations for legislative changes that are needed to improve the quality of care provided to children under titles XIX and XXI, including recommendations for quality reporting by the States.

II. Solicitation of Comments

We request public comments for consideration in the formulation of legislative changes to be recommended by the Secretary, including requirements for the process and content of quality reporting by the States. We request that these suggestions address the dimensions of quality and the subject areas listed above.

III. Response to Comments

Because of the large number of public comments we normally receive on Federal Register documents, we are not able to acknowledge or respond to them individually. We will consider all comments we receive by the date and time specified in the DATES section of this preamble, and, when we proceed with a subsequent document, we will respond to the comments in the preamble to that document.

(Catalog of Federal Domestic Assistance Program No. 93.778, Medical Assistance Program)

Dated: July 19, 2010.
Marilyn Tavenner,
Principal Deputy Administrator, Centers for Medicare & Medicaid Services.

[FR Doc. 2010-18140 Filed 7-29-10; 8:45 am]

BILLING CODE 4120-01-P